COMMISSION ON CIVIL RIGHTS

Agenda and Notice of Public Meeting of the New Hampshire Advisory Committee

Notice is hereby given, pursuant to the provisions of the rules and regulations of the U.S. Commission on Civil Rights, that a meeting of the New Hampshire Advisory Committee to the Commission will convene at 2 p.m. and adjourn at 6 p.m. on Friday, September 29, 2000, at the Sheraton Four Points Manchester, 55 John Devine Drive, Manchester, New Hampshire 03060. The Committee will finalize plans for a Fall consultation to be held in Manchester based on their project, “A Report on the Status of Civil Rights in New Hampshire.” The Committee will also be briefed by invited guests on local civil rights issues pertinent to the project.

Persons desiring additional information, or planning a presentation to the Committee, should contact Committee Chairperson Patricia Taylor, 603-883-5813, or Fernando Serpa, Civil Rights Analyst of the Eastern Regional Office, 202-376-7533 (TDD 202-376-8116). Hearing-impaired persons who will attend the meeting and require the services of a sign language interpreter should contact the Regional Office at least ten (10) working days before the scheduled date of the meeting.

The meeting will be conducted pursuant to the provisions of the rules and regulations of the Commission.

Dated at Washington, DC, August 28, 2000.
Lisa M. Kelly,
Special Assistant to the Staff Director, Regional Programs Coordination Unit.

[FR Doc. 00-23078 Filed 9-7-00; 8:45 am]

BILLING CODE 6335-01-P